DEPARTMENT OF TRANSPORTATION

Coast Guard

33 CFR Part 100

[CGD07-02-013]

RIN 2115-AE46

Special Local Regulations; Deerfield Beach Super Boat Race, Deerfield Beach, FL

AGENCY: Coast Guard, DOT.

ACTION: Temporary final rule.

SUMMARY: The Coast Guard is establishing temporary special local regulations for the Deerfield Beach Super Boat Race. This event will be held from 10 a.m. to 4 p.m. on July 14, 2002. This rule is necessary to provide for the safety of life on navigable waters during the event.

DATES: This rule is effective from 10 a.m. on July 14, 2002 until 4 p.m. on July 15, 2002.

ADDRESSES: Comments and material received from the public, as well as documents indicated in the preamble as being available in the docket are part of docket CGD07-02-013 and are available for inspection or copying at Coast Guard Group Miami, 100 MacArthur Causeway, Miami Beach, FL, between the hours of 7:30 a.m. and 3 p.m., Monday through Friday except Federal holidays.

FOR FURTHER INFORMATION CONTACT: BMC V. Sorensen, Coast Guard Group Miami, FL at (305) 535-4317.

SUPPLEMENTARY INFORMATION:

Regulatory Information

We did not publish a notice of proposed rulemaking (NPRM) for this regulation. Under 5 U.S.C. 553(b)(B), the Coast Guard finds that good cause exists for not publishing a NPRM. Publishing a NPRM, which would incorporate a comment period before a final rule could be issued, would be contrary to public safety interests since immediate action is needed to minimize potential danger to the public because there will be numerous spectator craft in the area.

For the same reason, under 5 U.S.C. 553(d)(3), the Coast Guard finds that good cause exists for making this rule effective less than 30 days after publication in the Federal Register.

On May 7, 1998, the Coast Guard published a Notice of Proposed Rulemaking in the Federal Register (63 FR 25187), seeking comments on the establishment of permanent special local regulations for the Deerfield Beach Super Boat Race. No comments were received during the comment period. On June 26, 1998, the Coast Guard published a final rule in the Federal Register (63 FR 34813) creating the permanent special local regulations in 33 CFR 100.733. The published rule is effective on the third Sunday in July.

However, this year the third Sunday in July will put the race the weekend before the mini-lobster season. The race organizers are moving the race date up one week this year to avoid conflict with vessels and people preparing for the mini-lobster season.

Background and Purpose

Super Boat International Productions Inc., is sponsoring a high-speed power boat race that will take place on July 14, 2002 in the Alantic Ocean off Deerfield Beach, Florida. Approximately 35 race boats, ranging in length from 24 to 50 feet, will participate in the event. There will also be approximately 200 spectator craft. The race boats will be competing at high speeds with numerous spectator craft in the area, creating a hazard in the navigable waterways. These regulations will create a regulated area offshore of Deerfield Beach that will only allow participant vessels to enter and establish a spectator craft area.

The permanent special local regulations in 33 CFR § 100.733 have been in place since 1998. The rule is effective on the third Sunday in July. However, this year the third Sunday in July will put the race the weekend before the mini-lobster season. The race organizers are moving the race date this year to avoid conflict with vessels and people preparing for the mini-lobster season.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Transportation (DOT) (44 FR 11040, February 26, l979).

The Coast Guard expects the economic impact of this proposed rule to be so minimal that a full Regulatory Evaluation under paragraph 10e of the regulatory policies and procedures of Department of Transportation is unnecessary because vessels will be able to transit around the regulated area and entry into the regulated area is prohibited for only 6 hours on the day of the event.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities because small entities will be able to transit around the regulated area and entry into the regulated area is prohibited for only 6 hours on the day of the event.

A regulated area encompasses all waters within a box established by joining the following points:

Corner point 1: 26°19.7′N-080°04.4′W

Corner point 2: 26°19.7′N-080°03.7′W

Corner point 3: 26°15.7′N-080°04.1′W

Corner point 4: 26°15.7′N-080°04.9′W

A spectator area is established in the vicinity of the regulated area for spectator traffic and encompasses all waters within a box established by joining the following points:

Corner point 1: 26°15.7′N-080°03.9′W

Corner point 2: 26°15.7′N-080°04.1′W

Corner point 3: 26°19.7′N-080°03.7′W

Corner point 4: 26°19.7′N-080°03.5′W

All coordinates reference Datum NAD: 83.

Entry into the regulated area by non-participant persons or vessel is prohibited unless authorized by the Coast Guard Patrol Commander. After the completion of scheduled races and the departure of participants from the regulated area, traffic may resume normal operations at the discretion of the Coast Guard Patrol Commander. The Coast Guard Patrol Commander may also permit traffic to resume normal operations between scheduled racing events.

Assistance for Small Entities

Under section 213(a) of the Small Business Regulatory Enforcement Fairness Act of 1996 (Pub. L. 104-121), we offered to assist small entities in understanding the rule so that they could better evaluate its effects on them and participate in the rulemaking process.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Although this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that Order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We have considered the environmental impact of this rule and concluded that under figure 2-1, paragraph 34(h), of Commandant Instruction M16475.lD, this rule is categorically excluded from further environmental documentation. A “Categorical Exclusion Determination” is available in the docket for inspection or copying where indicated under ADDRESSES.

List of Subjects in 33 CFR Part 100

Marine safety, Navigation (water), Reporting and recordkeeping requirements, Waterways.

For reasons discussed in the preamble, the Coast Guard amends 33 CFR part 100 as follows:

PART 100-MARINE EVENTS

1. The authority citation for part 100 continues to read as follows:

Authority: 33 U.S.C. 1233; 49 CFR 1.46.

2. From 10 a.m. on July 14, 2002 until 4 p.m. on July 15, 2002, add temporary § 100.35T-07-013 to read as follows:

§ 100.35T-07-013 Annual Deerfield Beach Super Boat Race; Deerfield Beach, Florida.

(a) Regulated area. (1) A regulated area encompasses all waters within a box established by joining the following points:

Corner point 1: 26°19.7′N-080°04.4′W

Corner point 2: 26°19.7′N-080°03.7′W

Corner point 3: 26°15.7′N-080°04.1′W

Corner point 4: 26°15.7′N-080°04.9′W

(2) A spectator area is established in the vicinity of the regulated area for spectator traffic and encompasses all waters within a box established by joining the following points:

Corner point 1: 26°15.7′N-080°03.9′W

Corner point 2: 26°15.7′N-080°04.1′W

Corner point 3: 26°19.7′N-080°03.7′W

Corner point 4: 26°19.7′N-080°03.5′W

All coordinates reference Datum NAD: 83.

(b) Special local regulations. (1) Entry into the regulated area by non-participant persons and vessels is prohibited unless authorized by the Coast Guard Patrol Commander. After the completion of scheduled races and the departure of participants from the regulated area, traffic may resume normal operations at the discretion of the Coast Guard Patrol Commander. The Coast Guard Patrol Commander may also permit traffic to resume normal operations between scheduled racing events.

(c) Coast Guard Patrol Commander. The Coast Guard Patrol Commander is a commissioned, warrant, or petty officer of the Coast Guard who has been designated by Commanding Officer, Coast Guard Group Miami.

(d) Dates. This rule will be enforced from 10 a.m. to 4 p.m. on July 14, 2002. If the event is postponed on July 14, it will be enforced from 10 a.m. to 4 p.m. on July 15, 2002.

Dated: June 27, 2002.
J. W. Stark,
Captain, Coast Guard, Commander, Seventh Coast Guard District, Acting.

[FR Doc. 02-17096 Filed 7-8-02; 8:45 am]

BILLING CODE 4910-15-P